DEPARTMENT OF ENERGY

Federal Energy Regulatory Commission

[Docket No. CP08-3-000]

Dominion Transmission, Inc.; Notice of Request Under Blanket Authorization

October 15, 2007.

Take notice that on October 3, 2007, Dominion Transmission, Inc (DTI), 120 Tredegar Street, Richmond, VA 23219, filed in Docket No. CP08-3-000 a prior notice request pursuant to sections 157.205, 157.208 and 157.211 of the Commission's regulations under the Natural Gas Act (NGA) and DTI's blanket certificate issued in Docket No. CP82-537-000 for authorization to plug and abandon two wells located in the Tioga Storage Complex in Tioga County, Pennsylvania, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, DTI filed its application on behalf of PPL Gas Utilities Corporation and as operator of the Tioga Storage Complex. DTI proposes to plug and abandon wells TW-201 and TW-206 located in the West End Tioga Storage Pool. The certificated physical parameters, including total inventory, reservoir pressure, reservoir and buffer boundaries, and certificated capacity will remain unchanged.

Any questions concerning this application may be directed to Matthew R. Bley, Manager, Gas Transmission Certificates, Dominion Transmission, Inc., 120 Tredegar Street, Richmond, VA 23219, or telephone (804) 819-2877.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Comment Date: December 14, 2007.

Kimberly D. Bose,
Secretary.

[FR Doc. E7-20881 Filed 10-23-07; 8:45 am]

BILLING CODE 6717-01-P